DEPARTMENT OF ENERGY

Federal Energy Regulatory Commission

Combined Notice of Filings #1

Take notice that the Commission received the following exempt wholesale generator filings:

Docket Numbers: EG22-44-000.

Applicants: Swoose II LLC.

Description: Self-Certification of EWG Status of Swoose II LLC.

Filed Date: 1/18/22.

Accession Number: 20220118-5322.

Comment Date: 5 p.m. ET 2/8/22.

Take notice that the Commission received the following electric rate filings:

Docket Numbers: ER21-2562-002.

Applicants: Southwest Power Pool, Inc.

Description: Compliance filing: Compliance Filing—Definitive Interconnection System Impact Study Process to be effective 10/1/2021.

Filed Date: 1/20/22.

Accession Number: 20220120-5045.

Comment Date: 5 p.m. ET 2/10/22.

Docket Numbers: ER22-846-000.

Applicants: Southern California Edison Company.

Description: Tariff Amendment: Amended GIA DSA Deer Creek Solar 1 SA No. 1058 1059 WDT1384 to be effective 1/21/2022.

Filed Date: 1/20/22.

Accession Number: 20220120-5078.

Comment Date: 5 p.m. ET 2/10/22.

Docket Numbers: ER22-847-000.

Applicants: PJM Interconnection, L.L.C.

Description: § 205(d) Rate Filing: Original ISA, SA No. 6312; Queue No. AE2-297 and Cancellation of SA No. 6014 to be effective 12/21/2021.

Filed Date: 1/20/22.

Accession Number: 20220120-5086.

Comment Date: 5 p.m. ET 2/10/22.

Docket Numbers: ER22-848-000.

Applicants: Urbana Solar LLC.

Description: Urbana Solar LLC submits Request for Limited One-Time Prospective Waiver with Expedited Consideration.

Filed Date: 1/18/22.

Accession Number: 20220118-5328.

Comment Date: 5 p.m. ET 2/8/22.

Docket Numbers: ER22-849-000.

Applicants: Sustaining Power Solutions LLC.

Description: § 205(d) Rate Filing: Notice of Change in Category Seller Status in the NW and SW Regions to be effective 1/21/2022.

Filed Date: 1/20/22.

Accession Number: 20220120-5098.

Comment Date: 5 p.m. ET 2/10/22.

Docket Numbers: ER22-850-000.

Applicants: PJM Interconnection, L.L.C.

Description: § 205(d) Rate Filing: Original WMPA, Service Agreement No. 6321; Queue No. AC2-050 to be effective 12/21/2021.

Filed Date: 1/20/22.

Accession Number: 20220120-5100.

Comment Date: 5 p.m. ET 2/10/22.

Docket Numbers: ER22-851-000.

Applicants: PJM Interconnection, L.L.C.

Description: § 205(d) Rate Filing: Original WMPA SA No. 6318; Queue No. AG2-395 to be effective 12/21/2021.

Filed Date: 1/20/22.

Accession Number: 20220120-5102.

Comment Date: 5 p.m. ET 2/10/22.

Docket Numbers: ER22-852-000.

Applicants: PJM Interconnection, L.L.C.

Description: § 205(d) Rate Filing: Original WMPA, Service Agreement No. 6324; Queue No. AG2-389 to be effective 12/21/2021.

Filed Date: 1/20/22.

Accession Number: 20220120-5105.

Comment Date: 5 p.m. ET 2/10/22.

Docket Numbers: ER22-853-000.

Applicants: Alabama Power Company, Georgia Power Company, Mississippi Power Company.

Description: § 205(d) Rate Filing: Alabama Power Company submits tariff filing per 35.13(a)(2)(iii: Blackwater Solar Amended and Restated LGIA Filing to be effective 1/5/2022.

Filed Date: 1/20/22.

Accession Number: 20220120-5112.

Comment Date: 5 p.m. ET 2/10/22.

Docket Numbers: ER22-854-000.

Applicants: Alabama Power Company, Georgia Power Company, Mississippi Power Company.

Description: § 205(d) Rate Filing: Alabama Power Company submits tariff filing per 35.13(a)(2)(iii: Bird Dog Solar Amended and Restated LGIA Filing to be effective 1/5/2022.

Filed Date: 1/20/22.

Accession Number: 20220120-5113.

Comment Date: 5 p.m. ET 2/10/22.

Docket Numbers: ER22-855-000.

Applicants: El Paso Electric Company.

Description: § 205(d) Rate Filing: Service Agreement No. 355, Simultaneous Exchange with Dynasty or Alternative to be effective 3/22/2022.

Filed Date: 1/20/22.

Accession Number: 20220120-5114.

Comment Date: 5 p.m. ET 2/10/22.

Docket Numbers: ER22-856-000.

Applicants: Alabama Power Company, Georgia Power Company, Mississippi Power Company.

Description: § 205(d) Rate Filing: Alabama Power Company submits tariff filing per 35.13(a)(2)(iii: Wolfskin Solar Amended and Restated LIGA Filing to be effective 1/5/2022.

Filed Date: 1/20/22.

Accession Number: 20220120-5115.

Comment Date: 5 p.m. ET 2/10/22

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 20, 2022.
Debbie-Anne A. Reese,
Deputy Secretary.

[FR Doc. 2022-01514 Filed 1-25-22; 8:45 am]

BILLING CODE 6717-01-P